ENVIRONMENTAL PROTECTION AGENCY

[ER-FRL-6613-4]

Environmental Impact Statements; Notice of Availability

Responsible Agency: Office of Federal Activities, General Information (202) 564-7167 or www.epa.gov/oeca/ofa.

Weekly receipt of Environmental Impact Statements Filed November 27, 2000 Through December 1, 2000 Pursuant to 40 CFR 1506.9.

EIS No. 000416, DRAFT EIS, SFW, CA, Metro Air Park Habitat Conservation Plan, Issuance of an Incidental Take Permit, To Protect, Conserve and Enhance Fish, Wildlife and Plants and their Habitat, Natomas Basin, Sacramento County, CA, Due: February 6, 2001, Contact: Vickie Campbell (916) 414-6600.

EIS No. 000417, DRAFT EIS, NPS, GA, Cumberland Island National Seashore General Management Plan, Wilderness Management Plan, Commercial Services Plan, Interpretation Plan, Resource Cultural and Natural Management Plan, Implementation, St. Marys County, GA, Due: April 9, 2001, Contact: Arthur Frederick (912) 882-4336.

EIS No. 000418, FINAL EIS, AFS, MN, Little East Creek Fuel Reduction Project, Plan to Grant Access Across Federal Land to Non-Federal Landowners, Implementation, LaCroix Ranger District, Superior National Forest, Saint Louis County, MN, Due: January 8, 2001, Contact: Jim Thompson (218) 666-0020.

EIS No. 000419, DRAFT EIS, MMS, LA, AL, MS, FL, Eastern Planning Area Outer Continental Shelf Oil and Gas Lease Sale 181 (December 2001), Gulf of Mexico, Offshore Marine Environment and Coastal Counties/Parishes of LA, MI, AL and northwestern FL, Due: January 22, 2001, Contact: Archie Melancon (703) 787-1547.

EIS No. 000420, THIRD DRAFT SUPPLEM, NOA, Atlantic Sea Scallop Fishery Management Plan (FMP), Updated Information, Framework Adjustment 14 to adjust the annual Amendment 7 day-at-sea allocation for 2001 and 2002 and to re-open portions of the Hudson Canyon and Virginia/North Carolina Areas for Scallop Fishing, Due: January 24, 2001, Contact: Patricia Churchill (202) 482-5916.

EIS No. 000421, DRAFT EIS, COE, CA, Guadalupe Creek Restoration Project, Restore Riparian Vegetation and Native Anadromous Fish Habitat, From Almaden Expressway to Masson Dam, Implementation, Guadalupe River, Santa Clara County, CA, Due: January 22, 2001, Contact: Brad Hubbards (916) 557-7054.

EIS No. 000422, FINAL EIS, USN, NY, Naval Weapons Industrial Reserve Plant Bethpage to Nassau County, Transfer and Reuse, Preferred Reuse Plan for the Property, Town of Oyster Bay, Nassau County, NY, Due: January 2, 2001, Contact: Robert K. Ostermueller (610) 595-0759.

This Notice of Availability should have appeared in the 12/1/2000 Federal Register. The Official Wait Period began on 12/1/2000 and ends on 1/2/2001.

Dated: December 5, 2000.
Joseph C. Montgomery,
Director, NEPA Compliance Division, Office of Federal Activities.

[FR Doc. 00-31349 Filed 12-7-00; 8:45 am]

BILLING CODE 6560-50-P